DEPARTMENT OF COMMERCE

International Trade Administration

[C-580-818]

Corrosion-Resistant Carbon Steel Flat Products From the Republic of Korea: Preliminary Results and Partial Rescission of Countervailing Duty Administrative Review

AGENCY: Import Administration, International Trade Administration, Department of Commerce.

SUMMARY: The Department of Commerce (the Department) is conducting an administrative review of the countervailing duty (CVD) order on corrosion-resistant carbon steel flat products (CORE) from the Republic of Korea (Korea) for the period of review (POR) January 1, 2008, through December 31, 2008. As a result of withdrawals of request for review, we are rescinding this review, in part, with respect to Dongbu Steel Co., Ltd. (Dongbu) and Pohang Iron and Steel Co., Ltd. (POSCO). For information on the net subsidy for Hyundai HYSCO Ltd. (HYSCO) the company reviewed, see the “Preliminary Results of Review” section of this notice. Interested parties are invited to comment on these preliminary results. See the “Public Comment” section of this notice.

DATES: Effective Date: September 14, 2010.

FOR FURTHER INFORMATION CONTACT: Gayle Longest, AD/CVD Operations, Office 3, Import Administration, International Trade Administration, U.S. Department of Commerce, Room 4014, 14th Street and Constitution Ave., NW., Washington, DC 20230; telephone: (202) 482-3338.

SUPPLEMENTARY INFORMATION:

Background

On August 17, 1993, the Department published in the Federal Register the CVD order on CORE from Korea. See Countervailing Duty Orders and Amendments of Final Affirmative Countervailing Duty Determinations: Certain Steel Products from Korea, 58 FR 43752 (August 17, 1993). On August 3, 2009, the Department published a notice of opportunity to request an administrative review of this CVD order. See Antidumping or Countervailing Duty Order, Finding, or Suspended Investigation: Opportunity To Request Administrative Review, 74 FR 38397 (August 3, 2009).

On August 31, 2009, we received a timely request for review from Dongbu Steel Co., Ltd. (Dongbu), Hyundai HYSCO Ltd. (HYSCO), and Pohang Iron and Steel Co., Ltd. (POSCO). On September 22, 2009, the Department published a notice of initiation of the administrative review of the CVD order on CORE from Korea covering the period January 1, 2008, through December 31, 2008. See Initiation of Antidumping and Countervailing Duty Administrative Reviews and Requests for Revocation in Part (Initiation), 74 FR 48224 (September 22, 2009). On October 14, 2009, and October 23, 2009, POSCO and Dongbu withdrew their requests for review, respectively.

Under 19 CFR 351.213(d)(1), the Department will rescind an administrative review, in whole or in part, if a party that requested a review withdraws the request within 90 days of the date of publication of the notice of initiation of the requested review.

The Initiation was published on September 22, 2009. Dongbu and POSCO submitted timely requests for withdrawal on October 14, 2009, and October 23, 2009, respectively. No other party requested administrative reviews of Dongbu and POSCO. Therefore, we are rescinding, in part, this review of the countervailing duty order of CORE from Korea with regard to Dongbu and POSCO.

On November 2, 2009, the Department issued the initial questionnaire to HYSCO, and the Government of Korea (GOK). On December 22, 2009, the Department received questionnaire responses from HYSCO and the GOK. On February 17, 2010, and July 13, 2010, the Department issued supplemental questionnaires to GOK and HYSCO. On March 17, 2010, and August 6, 2010, the Department received supplemental questionnaire responses from the GOK and HYSCO. On April 9, 2010, the Department published in the Federal Register an extension of its preliminary results of the instant administrative review. See Corrosion-Resistant Carbon Steel Flat Products from the Republic of Korea: Notice of Extension of Preliminary Results of Countervailing Duty Administrative Review, 75 FR 18153 (April 9, 2010).

In accordance with 19 CFR 351.213(b), this review covers only those producers or exporters for which a review was specifically requested. The company that continues to be subject to this review is HYSCO.

Scope of Order

Products covered by this order are certain corrosion-resistant carbon steel flat products from Korea. These products include flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness. The merchandise subject to this order is currently classifiable in the Harmonized Tariff Schedule of the United States (HTSUS) at subheadings: 7210.30.0000, 7210.31.0000, 7210.39.0000, 7210.41.0000, 7210.49.0030, 7210.49.0090, 7210.60.0000, 7210.61.0000, 7210.70.6030, 7210.70.6060, 7210.70.6090, 7210.90.1000, 7210.90.6000, 7210.90.9000, 7212.20.0000, 7212.21.0000, 7212.29.0000, 7212.30.1030, 7212.30.1090, 7212.30.3000, 7212.30.5000, 7212.40.1000, 7212.40.5000, 7212.50.0000, 7212.60.0000, 7215.90.1000, 7215.9030, 7215.90.5000, 7217.12.1000, 7217.13.1000, 7217.19.1000, 7217.19.5000, 7217.20.1500, 7217.22.5000, 7217.23.5000, 7217.29.1000, 7217.29.5000, 7217.30.15.0000, 7217.32.5000, 7217.33.5000, 7217.39.1000, 7217.39.5000, 7217.90.1000 and 7217.90.5000. Although the HTSUS subheadings are provided for convenience and customs purposes, the Department's written description of the merchandise is dispositive.

Average Useful Life

Under 19 CFR 351.524(d)(2), we will presume the allocation period for non-recurring subsidies to be the average useful life (AUL) of renewable physical assets for the industry concerned as listed in the Internal Revenue Service's (IRS) 1997 Class Life Asset Depreciation Range System, as updated by the Department of the Treasury. The presumption will apply unless a party claims and establishes that the IRS tables do not reasonably reflect the company-specific AUL or the country-wide AUL for the industry under examination and that the difference between the company-specific and/or country-wide AUL and the AUL from the IRS tables is significant. According to the IRS tables, the AUL of the steel industry is 15 years. No interested party challenged the 15-year AUL derived from the IRS tables. Thus, in this review, we have allocated, where applicable, all of the non-recurring subsidies provided to the producers/exporters of subject merchandise over a 15-year AUL.

Subsidies Valuation Information

A. Benchmarks for Short-Term Financing

For those programs requiring the application of a won-denominated, short-term interest rate benchmark, in accordance with 19 CFR 351.505(a)(2)(iv), we used as our benchmark the company-specific weighted-average interest rate for commercial won-denominated loans outstanding during the POR. This approach is in accordance with 19 CFR 351.505(a)(3)(i) and the Department's practice. See, e.g., Corrosion-Resistant Carbon Steel Flat Products From the Republic of Korea: Final Results of Countervailing Duty Administrative Review, 74 FR 2512 (January 15, 2009) (Final Results of CORE from Korea 2006), and accompanying Issues and Decision Memorandum (CORE from Korea 2006 Decision Memorandum) at “Benchmarks for Short-Term Financing.”

B. Benchmark for Long-Term Loans

During the POR, HYSCO had outstanding countervailable long-term won-denominated loans from government-owned banks and Korean commercial banks. We used the following benchmarks to calculate the subsidies attributable to respondents' countervailable long-term loans obtained through 2008:

(1) For countervailable, won-denominated long-term loans, we used, where available, the company-specific interest rates on the company's comparable commercial, won-denominated loans. If such loans were not available, we used, where available, the company-specific corporate bond rate on the company's public and private bonds, as we have determined that the GOK did not control the Korean domestic bond market after 1991. See, e.g., Final Negative Countervailing Duty Determination: Stainless Steel Plate in Coils from the Republic of Korea, 64 FR 15530, 15531 (March 31, 1999) (Stainless Steel Investigation) and “Analysis Memorandum on the Korean Domestic Bond Market” (March 9, 1999). The use of a corporate bond rate as a long-term benchmark interest rate is consistent with the approach the Department has taken in several prior Korean CVD proceedings. See Id.; see also Final Affirmative Countervailing Duty Determination: Structural Steel Beams from the Republic of Korea (H Beams Investigation), 65 FR 41051 (July 3, 2000), and accompanying Issues and Decision Memorandum at “Benchmark Interest Rates and Discount Rates;” and Final Affirmative Countervailing Duty Determination: Dynamic Random Access Memory Semiconductors from the Republic of Korea, 68 FR 37122 (June 23, 2003) (DRAMS Investigation), and accompanying Issues and Decision Memorandum at “Discount Rates and Benchmark for Loans.” Specifically, in those cases, we determined that, absent company-specific, commercial long-term loan interest rates, the won-denominated corporate bond rate is the best indicator of the commercial long-term borrowing rates for won-denominated loans in Korea because it is widely accepted as the market rate in Korea. See Final Affirmative Countervailing Duty Determinations and Final Negative Critical Circumstances Determinations: Certain Steel Products from Korea, 58 FR at 37328, 37345-37346 (July 9, 1993) (Steel Products from Korea). Where company-specific rates were not available, we used the national average of the yields on three-year, won-denominated corporate bonds, as reported by the Bank of Korea (BOK). This approach is consistent with 19 CFR 351.505(a)(3)(ii) and our practice. See, e.g., CORE from Korea 2006 Decision Memorandum at “Benchmark for Long Term Loans.”

In accordance with 19 CFR 351.505(a)(2)(i), our benchmarks take into consideration the structure of the government-provided loans. For countervailable fixed-rate loans, pursuant to 19 CFR 351.505(a)(2)(iii), we used benchmark rates issued in the same year that the government loans were issued.

I. Programs Determined To Be Countervailable

A. Short-Term Export Financing

Export-Import Bank of Korea (KEXIM) supplies two types of short-term loans for exporting companies, short-term trade financing and comprehensive export financing. See the GOK's December 22, 2009, questionnaire response (QR) at Exhibit J-1. KEXIM provides short-term loans to Korean exporters that manufacture goods under export contracts. Id. The loans are provided up to the amount of the bill of exchange or contracted amount, less any amount already received. Id. For comprehensive export financing loans, KEXIM supplies short-term loans to any small or medium-sized company, or any large company that is not included in the five largest conglomerates based on their comprehensive export performance. Id. To obtain the loans, companies must report their export performance periodically to KEXIM for review. Id. Comprehensive export financing loans cover from 50 to 90 percent of the company's export performance. Id.

In Steel Products from Korea, the Department determined that the GOK's short-term export financing program was countervailable. See Final Affirmative Countervailing Duty Determinations and Final Negative Critical Circumstances Determinations: Certain Steel Products From Korea, 58 FR 37338, 37350 (July 9, 1993) (Steel Products from Korea); see also Notice of Final Affirmative Countervailing Duty Determination: Certain Cold-Rolled Carbon Steel Flat Products From the Republic of Korea, 67 FR 62102, (October 3, 2002) (Cold-Rolled Investigation), and accompanying Issues and Decision Memorandum (Cold-Rolled Decision Memorandum) at “Short-Term Export Financing” section. No new information or evidence of changed circumstances was presented in this review to warrant any reconsideration of the countervailability of this program. Therefore, we continue to find this program countervailable. Specifically, we determine that the export financing constitutes a financial contribution in the form of a loan within the meaning of section 771(5)(D)(i) of the Act and confers a benefit within the meaning of section 771(5)(E)(ii) of the Act to the extent that the amount of interest the respondents paid for export financing under this program was less than the amount of interest that would have been paid on a comparable short-term commercial loan. See discussion above in the “Subsidies Valuation Information” section with respect to short-term loan benchmark interest rates. In addition, we preliminarily determine that the program is specific, pursuant to section 771(5A)(A) of the Act, because receipt of the financing is contingent upon exporting. HYSCO reported using short-term export financing during the POR.

Pursuant to 19 CFR 351.505(a)(1), to calculate the benefit under this program, we compared the amount of interest paid under the program to the amount of interest that would have been paid on a comparable commercial loan. As our benchmark, we used the short-term interest rates discussed above in the “Subsidies Valuation Information” section. To calculate the net subsidy rate, we divided the benefit by the free on board (f.o.b.) value of the respective company's total exports. On this basis, we determine the net subsidy rate to be 0.03 percent ad valorem for HYSCO.

B. Reduction in Taxes for Operation in Regional and National Industrial Complexes

Under Article 46 of the Industrial Cluster Development and Factory Establishment Act (Industrial Cluster Act), a state or local government may provide tax exemptions as prescribed by the Restriction of Special Taxation Act. In accordance with this authority, Article 276 of the Local Tax Act provides that an entity that acquires real estate in a designated industrial complex for the purpose of constructing new buildings or enlarging existing facilities is exempt from the acquisition and registration tax. In addition, the entity is exempt from 50 percent of the property tax on the real estate (i.e., the land, buildings, or facilities constructed or expanded) for five years from the date the tax liability becomes effective. The exemption is increased to 100 percent of the relevant land, buildings, or facilities that are located in an industrial complex outside of the Seoul metropolitan area. The GOK established the tax exemption program under Article 276 in December 1994, to provide incentives for companies to relocate from populated areas in the Seoul metropolitan region to industrial sites in less populated parts of the country. The program is administered by the local tax officials of the county where the industrial complex is located.

During the POR, pursuant to Article 276 of the Local Tax Act, HYSCO received exemptions from the acquisition tax, registration tax, and property tax based on the location of its manufacturing facilities, Suncheon Works, in the Yulchon Industrial Complex, a government-sponsored industrial complex designated under the Industrial Cluster Act. In addition, HYSCO received an exemption from the local education tax during the POR. The local education tax is levied at 20 percent of the property tax. The property tax exemption, therefore, results in an exemption of the local education tax.

In the CFS Paper Investigation, the Department determined that the tax exemptions under Article 276 of the Local Tax Act are countervailable subsidies. See Coated Free Sheet Paper from the Republic of Korea: Notice of Final Affirmative Countervailing Duty Determination, 72 FR 60639 (October 25, 2007) (CFS Paper Investigation), and accompanying Issues and Decision Memorandum at “Reduction in Taxes for Operation in Regional and National Industrial Complexes” (CFS Paper Decision Memorandum). No new information or evidence of changed circumstances from HYSCO or the GOK was presented in this review to warrant a reconsideration of the countervailability of this program. We, therefore, continue to find this program countervailable. Specifically, we preliminarily find that the tax exemptions that HYSCO received constitute a financial contribution and confer a benefit under sections 771(5)(D)(ii) and 771(5)(E) of the Act, respectively. We further preliminarily find that the tax exemptions are regionally specific under section 771(5A)(D)(iv) of the Act because the exemptions are limited to an enterprise or industry located within designated geographical regions in Korea.

To calculate the benefit, we divided HYSCO's total tax exemptions by the company's total f.o.b. sales value for 2008. On this basis, we preliminarily determine the net subsidy rate to be less than 0.005 percent ad valorem, which consistent with the Department's practice, does not confer a measurable benefit and is not included in the calculation of the net countervailable rate. See, e.g., CORE from Korea 2006 Decision Memorandum at “GOK's Direction of Credit” section.

C. GOK's Direction of Credit for Loans Issued Prior to 2002

In the Final Results of CORE from Korea 2006, the Department determined the GOK ended its practice of directing credit to the steel industry as of 2002. See Preliminary Results of CORE from Korea 2006, 73 FR 52315; 52317 (September 9, 2008) unchanged in Final Results of CORE from Korea 2006, 74 FR 2512 (January 15, 2009), and Issues and Decision Memorandum for the Countervailing Duty Administrative Review on Corrosion-Resistant Carbon Steel Flat Products from the Republic of Korea at “Programs Determined To Confer Subsidies, A. The GOK's Direction of Credit” section. However, during 2008, the respondent had an outstanding loan that was provided prior to 2002.

In accordance with 19 CFR 351.505(c)(2) and (4), we calculated the benefit for the loan received prior to 2002 as the difference between the actual amount of interest paid on the directed loan during the POR and the amount of interest that would have been paid during the POR at the benchmark interest rate. We conducted our benefit calculations using the benchmark interest rates described in the “Subsidies Valuation Information” section above.

To calculate the net subsidy rate, we divided the company's total benefit by its respective total f.o.b. sales values during the POR, as this program is not tied to exports or a particular product. For HYSCO, we preliminarily determine the net subsidy rate under the direction of credit program to be less than 0.005 percent ad valorem, which consistent with the Department's practice, does not confer a measurable benefit and is not included in the calculation of the net countervailable rate. See, e.g., CORE from Korea 2006 Decision Memorandum at “GOK's Direction of Credit” section.

D. R&D Grants Under the Act on the Promotion of the Development of Alternative Energy

The GOK's Development of Alternative Energy program is designed to contribute to the preservation of the environment, the sound and sustainable development of the national economy, and the promotion of national welfare by diversifying energy resources through promoting technological development, the use and diffusion of alternative energy, and reducing the discharge of gases harmful to humans or the environment by activating the alternative energy industry. See GOK's December 22, 2009, QR at Exhibit G-1. The program is administered by the Ministry of Knowledge Economy (MKE), Korea Energy Management Corporation (KEMCO), and Alternative Energy Development Center under KEMCO. Id.

Under the Act on the Promotion of the Development and Use of Alternative Energy, the GOK provides research and development (R&D) grants to support the following: (1) Survey of resources for alternative energy and demand for its technology, and compilation of statistics, (2) research and development of alternative energy, (3) collection, analysis, and provision of technological information on alternative energy, (4) guidance, education and publicity of technologies related to alternative energy, (5) use and diffusion of alternative energy, and model projects, (6) international cooperation related to alternative energy, (7) other projects necessary for the technological development and use or diffusion of alternative energy. Id., at 2.

Pursuant to Articles 4 and 5 of the Act on the Promotion of the Development and Use of Alternative Energy, MKE prepares a base plan and a yearly execution plan for the development of alternative energy. Id., at 3. The base and execution plan are announced to the public. Id. According to the GOK, any person who wishes to participate in the program prepares an R&D business plan and then submits the application to the Alternative Energy Development Center under KEMCO, which then evaluates the application and selects the projects eligible for government-support. Id. After the selected application is finally approved by MKE, KEMCO and the general supervising institute of the consortium enter into an R&D agreement and then MKE provides the grant through KEMCO. Id.

The costs of the R&D projects under this program are shared by the company (or research institution) and the GOK. Id., at 2. Specifically, the grant ratio for project costs are as follows: (1) For large companies the GOK provides grants up to one-half of the project costs, (2) for small/medium-sized companies the GOK provides grants up to three-fourth of the project costs, (3) for consortium ¹ the GOK provides grants up to three-fourth of the project costs, and (4) others the GOK provides grants up to one-half of the project costs. Id.

¹ If the ratio of small to medium-sized companies in a consortium is above two-thirds, the GOK provides grants up to one-half of the project costs.

When the project is evaluated as “successful” upon completion, the participating companies must repay 40 percent of the R&D grant to the GOK. Id., at 2. However, when the project is evaluated as “not successful”, the company does not have to repay any of the grant amount to the GOK. Id.

During the POR, HYSCO received an energy-related grant under the Act on the Promotion of the Development of Alternative Energy (Alternative Energy Act) for a R&D project in which the company participated with other firms. See GOK's December 22, 2009 QR at 18. HYSCO reported that R&D grants under the Alternative Energy Act are provided with respect to specific projects, which are generally multi-year projects where the amount of funds to be provided by the GOK is set out in the project contract. See HYSCO's March 17, 2010 QR at Exhibit G-10. The cost of R&D projects under this program is shared by the participating companies and the GOK. Id. HYSCO's grant is related to new technologies that are applicable to both inputs of subject merchandise as well as subject merchandise. See Memorandum to the File titled “HYSCO's R&D Grants under the Act on the Promotion of the Development and Use of Alternative Energy” (September 7, 2010) (HYSCO Alternative Energy Grant Memorandum), of which a public version is on file in the CRU.

In the previous administrative review of this case, we examined this R&D grant and found that the subsidy rate under this program was less than 0.005 percent ad valorem, which, consistent with the Department's practice, did not confer a measurable benefit. See Corrosion-Resistant Carbon Steel Flat Products From the Republic of Korea: Preliminary Results of Countervailing Duty Administrative Review (Preliminary Results of CORE From Korea 2007), 74 FR 46100; 46106 (September 8, 2009) unchanged in Corrosion-Resistant Carbon Steel Flat Products From the Republic of Korea: Final Results of Countervailing Duty Administrative Review (Final Results of CORE From Korea 2007), 74 FR 55192 (October 27, 2009). Consequently, it was unnecessary for the Department to make a finding as to the countervailability of the program in that review. Id.

In this administrative review, we calculated the GOK's contribution to the project that was apportioned to HYSCO and then, in accordance with 19 CFR 351.524(b)(2), determined whether to allocate the non-recurring benefit from the grant over HYSCO's total sales in the year the grant was approved. Because the amount of the grant is less that 0.5 percent of the relevant sales, we expensed the benefit for the grant to the year of receipt. We preliminarily determine the subsidy rate under this program to be greater than 0.005 percent ad valorem, which, consistent with the Department's practice is a measurable benefit. Consequently, it is necessary for the Department to make a finding as to the countervailability of this program.

Therefore, in these preliminary results, we have analyzed whether the grant received from the GOK under the Alternative Energy Act is countervailable. We analyzed whether the GOK provided grants to the respondent and/or Korean industries in a manner that was specific within the meaning of section 771(5A) of the Act. We preliminarily determine the Alternative Energy Act is de jure specific within the meaning of 771(5A)(D)(i) because the GOK expressly limits access to the subsidy to the development and promotion of alternative energy. See GOK's December 22, 2009 QR at Exhibit G-2 and G-4. We also preliminarily determine that a financial contribution provided in the form of revenue forgone, and a benefit within the meaning of sections 771(5)(D)(ii) and 771(5)(E) of the Act.

To determine the benefit from the grant HYSCO received from this program, we calculated the GOK's contribution for the R&D grant that was apportioned to HYSCO. See 19 CFR 351.504(a). Next, in accordance with 19 CFR 351.524(b)(2), we determined whether to allocate the non-recurring benefit from the grants over a 15-year AUL by dividing the GOK approved grant amount by the company's total sales in the year of approval. Because the approved amount was less than 0.5 percent of the company's total sales, we expensed the grant to the year of receipt. Next, to calculate the net subsidy rate, we divided the portion of the benefit allocated to the POR by HYSCO's total f.o.b. sales for 2008. See 19 CFR 351.525(b)(3). On this basis, we preliminarily determine the net subsidy rate under this program to be 0.01 percent ad valorem for HYSCO.

E. R&D Grants Under the Act on Special Measures for the Promotion of Specialized Enterprises for Parts and Materials

Under the Act on Special Measures for the Promotion of Specialized Enterprises for Parts and Materials (Promotion of Specialized Enterprises Act), the GOK shares the costs of R&D projects with companies or research institutions the goal of the program is to support technology development for core parts and materials necessary for technological innovation and improvement in competitiveness. See GOK's December 22, 2009 QR at Exhibit G-5. The program is administered by the Ministry of Knowledge Economy (MKE) and Korea Evaluation Institute of Industrial Technology (KEIT). Id.

In accordance with Articles 3 and 4 of the Promotion of Specialized Enterprises Act, MKE prepares a base plan and a yearly execution plan for the development of the parts and materials industry. See GOK's December 22, 2009 QR at Exhibit G-5. Under the execution plan, MKE announces to the public a detailed business plan for the development of parts and materials technology. Id. at 2. This business plan includes support areas, qualifications, and the application process. Id. According to the GOK, any person or company can participate in the program by preparing an R&D business plan that conforms with the requirements set forth in the MKE business plan. Id. at 3. The completed application must then be submitted to KEIT, which evaluates the application and selects the projects eligible for government-support. Id. After the selected application is finally approved by MKE, MKE and the participating companies enter into an R&D agreement and then MKE provides the grant. Id.

R&D project costs are shared by the GOK and companies or research institutions as follows: (1) When the group of companies involved in the research is made up of a ratio above two-thirds small to medium-sized companies, the GOK provides a grant up to three-forth of the project cost; (2) When the group of companies involved in the research is made up of a ratio below two-thirds small to medium-sized companies, the GOK provides a grant up to one-half of the project cost. See GOK's December 22, 2009 QR, Exhibit G-5 at 2.

Upon completion of the project, if the GOK evaluates the project as “successful”, the participating companies must repay 40 percent of the R&D grant to the GOK over five years. See GOK's December 22, 2009 QR, Exhibit G-5 at 2. However, if the project is evaluated by the GOK as “not successful”, the company does not have to repay any of the grant amount to the GOK. Id.

HYSCO reported that during the POR, it was involved in two R&D projects under this program. See HYSCO's December 22, 2009 QR at 18. HYSCO further reported that it led a consortia of several companies in these projects for the steel used in automobiles. Id. Moreover, HYSCO stated that it received R&D grants under this program that are for the development of specialized technologies associated with the production of subject merchandise. Id.

Therefore, in these preliminary results, we have analyzed whether the grants received from the GOK under the Promotion of Specialized Enterprises Act is countervailable. We analyzed whether the GOK provided grants to the respondent and/or Korean industries in a manner that was specific within the meaning of section 771(5A) of the Act. Because we do not have a full translation of the Promotion of Specialized Enterprises Act on the record, we do not have the information necessary to determine whether it is de jure specific. Subsequent to these preliminary results, we will request a full translation of the law from the GOK so that we can make a de jure specificity determination for the final results.

Where the Department cannot find de jure specificity, section 771(5A)(D)(iii) of the Act also directs the Department to examine whether the benefits provided under the program are de facto specific—that is, whether the benefits are specific as a matter of fact. Subparagraphs (I) through (IV) of section 771(5A)(D)(iii) of the Act stipulate that a program is de facto specific if one or more of the following factors exist:

(I) The actual recipients of the subsidy whether considered on an enterprise or industry basis are limited in number.

(II) An enterprise or industry is a predominant user of the subsidy.

(III) An enterprise or industry receives a disproportionately large amount of the subsidy

(IV) The manner in which the authority providing the subsidy has exercised discretion in the decision to grant the subsidy indicates that an enterprise or industry is favored over others.

In response to the Department's request, the GOK provided the Department with a breakdown of the R&D grants approved under the Promotion of Specialized Enterprises Act by the GOK, for HYSCO and by industry, for the years 2002 through 2008, which corresponds to the years the R&D projects in question were approved and the three previous years. See GOK's August 6, 2010 QR at Exhibit G-15 and Exhibit G-16. In conducting our de facto specificity analysis, we identified the GOK assistance approved for HYSCO's R&D projects under this program for which it received grants during the POR. We then analyzed the distribution of all GOK grants received under this program in the years in which HYSCO's R&D project was approved and the three previous years.² Specifically, we compared the amount of assistance approved for HYSCO to the average amount of assistance approved for other companies. See Memorandum to the file titled: “De Facto Specificity Analysis for Preliminary Results: The Act on special Measures for the Promotion of Specialized Enterprises for Parts and Materials 2002-2008” (Specialized Enterprises Act Specificity Memorandum) of which a public version is on file in CRU. Based on our analysis of the GOK's R&D grants under the Specialized Enterprises Act, we preliminarily determined that HYSCO received a disproportionate share of assistance under this program in 2005 and 2008 because the amounts it received were significantly larger than the average amount disbursed to other companies in those years. See Specialized Enterprises Act Specificity Memorandum. Therefore, consistent with our past practice, we preliminarily find that the program, with respect to the assistance provided to HYSCO, is de facto specific within the meaning of 771(5A)(D)(iii)(III) of the Act because the respondent received a disproportionate amount of the benefits under the program. See, e.g., Alloy Magnesium From Canada: Final Results of Countervailing Duty New Shipper Review, 68 FR 22359 (April 28, 2003), and accompanying issues and decision memorandum at Comment 2, in which the Department found a program to be de facto specific based, in part, on the fact that the amount of benefits received by the respondent was, “* * * greater than the grants received by 99 percent of all the beneficiaries and over ninety times larger than the typical grant amount.” We also preliminarily determine that a financial contribution is provided in the form of revenue forgone, and a benefit within the meaning of sections 771(5)(D)(ii) and 771(5)(E) of the Act.

² The GOK only provided information by industry concerning the year in which HYSCO's R&D projects were approved, 2005 and 2008, and the preceding three years.

To determine the benefit from the grants HYSCO received from the Specialized Enterprises Act program, we calculated the GOK's contribution for the R&D grant that was apportioned to HYSCO. See 19 CFR 351.504(a). Next, in accordance with 19 CFR 351.524(b)(2), we determined whether to allocate the non-recurring benefit from the grants over a 15-year AUL by dividing the GOK approved grant amount by the company's total sales in the year of approval. Because the approved amount was less than 0.5 percent of the company's total sales, we expensed the grant to the year of receipt. Next, to calculate the net subsidy rate, we divided the portion of the benefit allocated to the POR by HYSCO's total f.o.b. sales for 2008. See 19 CFR 351.525(b)(3). On this basis, we preliminarily determine the net subsidy rate under this program to be 0.03 percent ad valorem for HYSCO.

II. Programs Preliminarily Determined Not To Confer a Benefit During the POR

A. Research and Development Grants Under the Industrial Development Act (IDA)

The GOK, through the Ministry of Knowledge Economy (MKE),³ provides R&D grants to support numerous projects pursuant to the IDA, including technology for core materials, components, engineering systems, and resource technology. See Corrosion-Resistant Carbon Steel Flat Products From the Republic of Korea: Preliminary Results of Countervailing Duty Administrative Review Preliminary Results of CORE From Korea 2007), 74 FR 46100; 46102 (September 8, 2009) unchanged in Corrosion-Resistant Carbon Steel Flat Products From the Republic of Korea: Final Results of Countervailing Duty Administrative Review (Final Results of CORE from Korea 2007), 74 FR 55192 (October 27, 2009). The IDA is designed to foster the development of efficient technology for industrial development. Id. To participate in this program a company may: (1) Perform its own R&D project, (2) participate through the Korea Association of New Iron and Steel Technology (KANIST),⁴ which is an association of steel companies established for the development of new iron and steel technology, and/or (3) participate in another company's R&D project and share R&D costs as well as funds received from the GOK. Id. To be eligible to participate in this program, the applicant must meet the qualifications set forth in the basic plan and must perform R&D as set forth under the Notice of Industrial Basic Technology Development Plan. Id. If the R&D project is not successful, the company must repay the full amount of the grants provided by the GOK. Id.

³ Prior to February 29, 2008, MKE was known as the Ministry of Commerce, Industry, and Energy (MOCIE).

⁴ Also known as Korea New Iron & Steel Technology Research Association (KNISTRA).

In the H Beams Investigation, the Department determined that through KANIST, the Korean steel industry receives funding specific to the steel industry. Therefore, given the nature of KANIST, the Department found projects under KANIST to be specific. See Preliminary Negative Countervailing Duty Determination With Final Antidumping Duty Determination: Structural Steel Beams From the Republic of Korea, 64 FR 69731, 69740 (December 14, 1999) (unchanged in the final results, 65 FR 69371 (July 3, 2000), and accompanying Issues and Decision Memorandum at “R&D Grants Under the Korea New Iron & Steel Technology Research Association (KNISTRA)”). Further, we found that the grants constitute a financial contribution under section 771(5)(D)(i) of the Act in the form of a grant, and bestow a benefit under section 771(5)(E) of the Act in the amount of the grant. Id. No new factual information or evidence of changed circumstances has been provided to the Department with respect to this program. Therefore, we preliminarily continue to find that this program is de jure specific within the meaning of section 771(5A)(D)(i) of the Act and constitutes a financial contribution and confers a benefit under sections 771(5)(D)(i) and 771(5)(E) of the Act, respectively.

HYSCO benefitted from this program during the POR. See HYSCO's December 22, 2009 QR at 17. HYSCO participated in a project indirectly through KANIST. Id. HYSCO claims that the project for which grants were received from the government was not related to subject merchandise. Id. at 18.

The Department has previously determined that the grants HYSCO received under this program are attributed to the production of non-subject. See Corrosion-Resistant Carbon Steel Flat Products From the Republic of Korea: Preliminary Results of Countervailing Duty Administrative Review (Preliminary Results of CORE from Korea 2007), 74 FR 46100; 46102 (September 8, 2010) unchanged in Corrosion-Resistant Carbon Steel Flat Products From the Republic of Korea: Final Results of Countervailing Duty Administrative Review (Final Results of CORE From Korea 2007), 74 FR 55192 (October 27, 2008); and Memorandum to the File titled “HYSCO's R&D Grants Under the IDA Memorandum to the file in the Countervailing Duty Administrative Review for the period of review (POR) January 1, 2007 through December 31, 2007” (July 26, 2010) (HYSCO IDA Grants Memorandum), of which a public version is on file in the CRU. Therefore, consistent with 19 CFR 351.525(b)(5)(i) and our past practice, we determine that these grants are tied to non-subject merchandise and, thus did not confer a benefit to HYSCO during the POR.

B. Energy Savings Fund Program

The Energy Savings Fund (ESF) program provides financing for investment in projects and equipment that use energy efficiently. In the DRAMS Investigation, the Department found that the loans were not specific within the meaning of section 771(5A) of the Act during the period of investigation (POI), which was January 1, 2001, through June 30, 2002. See Final Affirmative Countervailing Duty Determination: Dynamic Random Access Memory Semiconductors from the Republic of Korea, 68 FR 37122 (June 23, 2003) (DRAMS Investigation), and accompanying Issues and Decision Memorandum (DRAMS Investigation Decision Memorandum) at “ESF Program” and “Comment 24.” In the instant review, HYSCO reported that, during the POR, the company had outstanding balances for ESF loans that were received in 2000. The Department's specificity finding in the DRAMS Investigation did not cover the year 2000. See Preliminary Affirmative Countervailing Duty Determination: Dynamic Random Access Memory Semiconductors from the Republic of Korea, 68 FR 16766, 16775 (April 7, 2003) (unchanged in final results, 68 FR 37122 (June 23, 2003)). However, because there is no measurable benefit for this program as explained below, we preliminarily determine that it is unnecessary for the Department to make a determination on the countervailability of ESF loans that were issued in 2000.

We performed the loan benefit calculation applying the long-term benchmark interest rates described above in the “Subsidies Valuation Information” section. For the POR, we preliminarily determine the net subsidy rate under the ESF loan program to be less than 0.005 percent ad valorem, which, consistent with the Department's practice, does not confer a measurable benefit and is not included in the calculation of the net countervailable rate. See, e.g., CORE from Korea 2006 Decision Memorandum at “GOK's Direction of Credit” section.

C. Overseas Resource Development Program: Loan From Korea Resources Corporation (KORES)

In Final Results of CORE from Korea 2006, the Department found that GOK enacted the Overseas Resource Development (ORD) Business Act in order to establish the foundation for securing the long-term supply of essential energy and major material minerals, which are mostly imported because of scarce domestic resources. See Preliminary Results of CORE from Korea 2006, 73 FR 52315; 52326 (September 9, 2008) unchanged in Final Results of CORE from Korea 2006, 74 FR 2512 (January 15, 2009), and Issues and Decision Memorandum for the Countervailing Duty Administrative Review on Corrosion-Resistant Carbon Steel Flat Products from the Republic of Korea at “Programs Determined To Be Not Used” section. Pursuant to Article 11 of this Act, the Ministry of Commerce, Industry and Energy (MOCIE) annually announces its budget and the eligibility criteria to obtain a loan from MOCIE. Id. Any company that meets the eligibility criteria may apply for a loan to MOCIE. Id. The eligibility criteria for receiving an ORD loan are that the loan should be used for surveying, exploration, development, production, engineering services and financing for the development of overseas natural resources. Id. The applicant submits its ORD plans to MOCIE in accordance with the Overseas Resources Development Business Act. Id. MOCIE requests that the KORES, a public corporation that is wholly owned by the GOK, conduct an eligibility review, feasibility study and credit evaluation. Id. KORES was established in 1967 and has assumed a direct role in establishing and implementing the GOK's resources development policy, whose purpose is to secure mineral resources for Korea. Id. In the selection process, KORES uses a loan evaluation committee to select the recipients based on the criteria for the project to develop strategic minerals (e.g., bituminous coal, uranium, iron ore, copper, zinc, nickel, etc.) including co-development with resource-owning countries, mining right of minerals, etc. KORES provides the evaluation results and its recommendation to MOCIE. Id. If the result and recommendation are favorable, MOCIE approves the loan application and provides funds to KORES. KORES then lends the funds to the company for foreign resource development. Id.

During the POR, HYSCO obtained loans from KORES for investment in a copper mine in Mexico. See HYSCO's December 22, 2009 QR at 11 and Exhibit 8 at 24. However, under 19 CFR 351.505(b), no benefits were received by HYSCO during the POR. Therefore, we preliminarily determine that HYSCO did not receive a benefit from this program during the POR. We will continue to examine this program in future reviews.

D. Overseas Resource Development Program: Loan From Korea National Oil Corporation (KNOC)

In Final Results of CORE from Korea 2007, the Department found that GOK enacted the Overseas Resource Development (ORD) Business Act in order to establish the foundation for securing the long-term supply of essential energy and major material minerals, which are mostly imported because of scarce domestic resources. See Preliminary Results of CORE from Korea 2007, 74 FR 46100; 46107-46108 (September 8, 2010) unchanged in Final Results of CORE from Korea 2007) 74 FR 55192 (October 27, 2008). Pursuant to Article 11 of this Act, the MKE annually announces its budget and the eligibility criteria to obtain a loan from MKE. Id. Any company that meets the eligibility criteria may apply for a loan to MKE. Id. For projects that are related to petroleum and natural gas, the KNOC lends the funds to the company for foreign resources development. Id. An approved company enters into a borrowing agreement with KNOC for the development of the selected resource. Id. Two types of loans are provided under this program: “General loans” and “success-contingent loans”. For a success-contingent loan, the repayment obligation is subject to the results of the development project. In the event that the project fails, the company will be exempted for all or a portion of the loan repayment obligation. However, if the project succeeds, a portion of the project income is payable to KNOC. Id.

During the POR, HYSCO obtained a loan from KNOC related to the exploration for petroleum in New Zealand. See HYSCO's December 22, 2009 questionnaire response (QR) at 11 and Exhibit 8 at 24. However, under 19 CFR 351.505(b), no benefits were received by HYSCO during the POR. Therefore, we preliminarily determine that HYSCO did not receive a benefit from this program during the POR. We will continue to examine this program in future reviews.

III. Programs Preliminarily Determined To Be Not Countervailable

A. Long-Term Loans From the Korean Development Band (KDB) Issued in Years 2002 through 2008

HYSCO had long-term loans that were issued by the Korean Development Bank (KDB), a government policy bank, in years 2002 through 2008 on which they made interest payments during the POR. Therefore, in these preliminary results, we have analyzed whether the long-term KDB loans are countervailable. First, we analyzed whether the KDB issued long-term loans to the respondent and/or the Korean steel industry in a manner that was specific within the meaning of section 771(5A) of the Act.

The Department has previously determined that long-term loans issued by the KDB during the period 2002 through 2006 are not de jure specific within the meaning of sections 771(5A)(D)(i) and (ii) of the Act because: (1) They are not based on exportation; (2) they are not contingent on the use of domestic goods over imported goods; and (3) the legislation and/or regulations do not expressly limit access to the subsidy to an enterprise or industry, or groups thereof, as a matter of law. See CFS Paper Investigation 72 FR 60639 (October 25, 2007) and CFS Paper Decision Memorandum at “Long-Term Lending Provided by the KDB and Other GOK-Owned Institutions” section. The Department's finding in the CFS Paper Investigation that long-term loans issued by the KDB during the period 2002 through 2006 are not de jure specific was not limited to a particular industry or industries. Id. Therefore, in regard to this issue, we find that the Department's determination in the CFS Paper Investigation is applicable to the instant review. Further, concerning this program, there is no information on the record of the instant review that warrants reconsideration of the Department's prior finding of the absence of de jure specificity during the 2002 through 2006 period. On this basis, we preliminarily determine that the KDB's issuance of long-term loans during the 2002 through 2007 period are not de jure specific within the meaning of sections 771(5A)(D)(i) and (ii) of the Act.

Where the Department finds no de jure specificity, section 771(5A)(D)(iii) of the Act also directs the Department to examine whether the benefits provided under the program are de facto specific—that is, whether the benefits are specific as a matter of fact. Subparagraphs (I) through (IV) of section 771(5A)(D)(iii) of the Act stipulate that a program is de facto specific if one or more of the following factors exist:

(I) The actual recipients of the subsidy whether considered on an enterprise or industry basis are limited in number.

(II) An enterprise or industry is a predominant user of the subsidy.

(III) An enterprise or industry receives a disproportionately large amount of the subsidy

(IV) The manner in which the authority providing the subsidy has exercised discretion in the decision to grant the subsidy indicates that an enterprise or industry is favored over others.

In response to the Department's request, the GOK provided the Department with a breakdown of the issuance of long-term lending by the KDB, by industry, for the years 2002 through 2008. See GOK's March 17, 2010, Questionnaire Response, at Exhibit A-5. In conducting our de facto specificity analysis, we identified all long-term loans issued by the KDB to HYSCO on which interest payments were made during the POR. We then analyzed the distribution of all long-term loans issued by the KDB across industry groups in the year in which HYSCO's outstanding loans were issued as well as the two preceding years.⁵ Specifically, we compared the amount of long-term KDB loans issued to the “Base Metal Industry” (e.g., the steel industry) to the amount of long-term KDB loans issued to other industries.

⁵ The GOK was able to provide information concerning the amount of loans the KDB issued to each industry during the period 2001 through 2007. Therefore, when analyzing whether loans issued in 2002 were specific, we were only able to analyze lending patterns during the period 2001 and 2002.

Based on our analysis of the long-term KDB lending data coupled with the KDB lending data reported by HYSCO in their respective questionnaire responses, we preliminarily determine that the respondent firm, as an individual enterprise, did not receive KDB loans in a manner that was de facto specific as described in sections 771(5A)(D)(iii) of the Act. Further, based on these comparisons, we preliminarily determine that the KDB did not issue loans to the steel industry in a manner that was de facto specific as described in section 771(5A)(D)(iii) of the Act. For further information, see Memorandum to the File titled “Analysis of KDB Lending Data” (September 7, 2010), which is a public document on file in the CRU.

On this basis, we preliminarily determine that the long-term loans that HYSCO received from the KDB during the years 2002 through 2008 are not specific within the meaning of section 771(5A) of the Act, and, therefore, we preliminarily determine that they are not countervailable.

IV. Programs Preliminarily Determined To Be Not Used

Overseas Resource Development Program: Loan From KEXIM

In Final Results of CORE from Korea 2006, the Department found that GOK enacted the Overseas Resource Development (ORD) Business Act in order to establish the foundation for securing the long-term supply of essential energy and major material minerals, which are mostly imported because of scarce domestic resources. See Corrosion-Resistant Carbon Steel Flat Products From the Republic of Korea: Preliminary Results of Countervailing Duty Administrative Review (Preliminary Results of CORE from Korea 2006), 73 FR 52315; 52326 (September 9, 2008) unchanged in Corrosion-Resistant Carbon Steel Flat Products From the Republic of Korea: Final Results of Countervailing Duty Administrative Review (Final Results of CORE from Korea 2006), 74 FR 2512 (January 15, 2009), and Issues and Decision Memorandum at “Programs Determined To Be Not Used” section. Pursuant to Article 11 of this Act, the MKE annually announces its budget and the eligibility criteria to obtain a loan from MKE. Id. Any company that meets the eligibility criteria may apply for a loan to MKE. Id. The eligibility criteria for receiving an ORD loan are that the loan should be used for surveying, exploration, development, production, engineering services and financing for the development of overseas natural resources. Id. The applicant submits its ORD plans to MKE in accordance with the ORD. Id. The loan evaluation committee evaluates the applications, selects the recipients and gets the approval from the minister of MKE. Id.

During the POR, HYSCO reported in its 2007-2008 financial statements that it obtained loans from KEXIM for investment in a copper mine in Mexico. See HYSCO's December 22, 2009, QR at 11 and Exhibit 8 at 24; see also HYSCO's Loan Agreement with KEXIM, Exhibit A-5. Copper is not an input used in the production of subject merchandise. Therefore, we preliminarily determine that HYSCO did not use this program with respect to the subject merchandise during the POR. We will continue to examine this program in future reviews.

In addition, we found that the following programs were not used during the POR:

• Reserve for Research and Manpower Development Fund Under RSTA Article 9 (TERCL Article 8)

• RSTA Article 11: Tax Credit for Investment in Equipment to Development Technology and Manpower (TERCL Article 10)

• Reserve for Export Loss Under TERCL Article 16

• Reserve for Overseas Market Development Under TERCL Article 17

• Reserve for Export Loss Under TERCL Article 22

• Exemption of Corporation Tax on Dividend Income from Overseas Resources Development Investment Under TERCL Article 24

• Tax Credits for Temporary Investments Under TERCL Article 27

• Social Indirect Capital Investment Reserve Funds Under TERCL Article 28

• Energy-Savings Facilities Investment Reserve Funds Under TERCL Article 29

• Reserve for Investment (Special Cases of Tax for Balanced Development Among Areas Under TERCL Articles 41-45)

• Tax Credits for Specific Investments Under TERCL Article 71

• Asset Revaluation Under Article 56(2) of the Tax Reduction and Exemption Control Act (TERCL)

• Emergency Load Reduction Program

• Electricity Discounts Under the Requested Loan Adjustment Program

• Electricity Discounts Under the Emergency Load Reductions Program

• Export Industry Facility Loans and Specialty Facility Loans

• Local Tax Exemption on Land Outside of a Metropolitan Area

• Short-Term Trade Financing Under the Aggregate Credit Ceiling Loan Program Administered by the Bank of Korea

• Industrial Base Fund

• Excessive Duty Drawback

• Private Capital Inducement Act

• Scrap Reserve Fund

• Special Depreciation of Assets on Foreign Exchange Earnings

• Export Insurance Rates Provided by the Korean Export Insurance Corporation

• Loans from the National Agricultural Cooperation Federation

• Tax Incentives from Highly Advanced Technology Businesses Under the Foreign Investment and Foreign Capital Inducement Act

• Other Subsidies Related to Operations at Asan Bay: Provision of Land and Exemption of Port Fees Under the Harbor Act

• D/A Loans Issued by the Korean Development Bank and Other Government-Owned Banks

• R&D Grants under the Promotion of Industrial Technology Innovation Act

• Export Loans by Commercial Banks Under KEXIM's Trade Bill Rediscounting Program

• Restriction of Special Taxation Act (RSTA) Article 94: Equipment Investment to Promote Worker's Welfare

Preliminary Results of Review

In accordance with 19 CFR 351.221(b)(4)(i), we calculated an individual subsidy rate for each producer/exporter subject to this administrative review. For the period January 1, 2008, through December 31, 2008, we preliminarily determine the net subsidy rate for HYSCO to be 0.07 percent ad valorem, a de minimis rate. See 19 CFR 351.106(c)(1).

The Department intends to issue assessment instructions to U.S. Customs and Border Protection (CBP) 15 days after the date of publication of the final results of this review. If the final results remain the same as these preliminary results, the Department will instruct CBP to liquidate without regard to countervailable duties all shipments of subject merchandise produced by HYSCO, entered, or withdrawn from warehouse, for consumption from January 1, 2008, through December 31, 2008. The Department will also instruct CBP not to collect cash deposits of estimated countervailing duties on shipments of the subject merchandise produced by HYSCO, entered, or withdrawn from warehouse, for consumption on or after the date of publication of the final results of this review.

We will instruct CBP to continue to collect cash deposits for non-reviewed companies at the most recent company-specific or country-wide rate applicable to the company. Accordingly, the cash deposit rates that will be applied to companies covered by this order, but not examined in this review, are those established in the most recently completed administrative proceeding for each company. These rates shall apply to all non-reviewed companies until a review of a company assigned these rates is requested.

Public Comment

Pursuant to 19 CFR 351.224(b), the Department will disclose to parties to the proceeding any calculations performed in connection with these preliminary results within five days after the date of the public announcement of this notice. Pursuant to 19 CFR 351.309, interested parties may submit written comments in response to these preliminary results. Unless otherwise indicated by the Department, case briefs must be submitted within 30 days after the publication of these preliminary results. See 19 CFR 351.309(c)(1)(ii). Rebuttal briefs, which are limited to arguments raised in case briefs, must be submitted no later than five days after the time limit for filing case briefs, unless otherwise specified by the Department. See 19 CFR 351.309(d)(1). Parties who submit argument in this proceeding are requested to submit with the argument: (1) A statement of the issue; and (2) a brief summary of the argument. Parties submitting case and/or rebuttal briefs are requested to provide the Department copies of the public version on disk. Case and rebuttal briefs must be served on interested parties in accordance with 19 CFR 351.303(f). Also, pursuant to 19 CFR 351.310(c), within 30 days of the date of publication of this notice, interested parties may request a public hearing on arguments to be raised in the case and rebuttal briefs. Unless the secretary specifies otherwise, the hearing, if requested, will be held two days after the date for submission of rebuttal briefs.

Pursuant to 19 CFR 351.305(b)(4), representatives of parties to the proceeding may request disclosure of proprietary information under administrative protective order no later than 10 days after the representative's client or employer becomes a party to the proceeding, but in no event later than the date the case briefs, under 19 CFR 351.309(c)(i), are due. The Department will publish the final results of this administrative review, including the results of its analysis of issues raised in any case or rebuttal brief or at a hearing.

These preliminary results of review are issued and published in accordance with sections 751(a)(1) and 777(i)(1) of the Act and 19 CFR 351.221(b)(4).

Dated: September 7, 2010.
Ronald K. Lorentzen,
Deputy Assistant Secretary for Import Administration.

[FR Doc. 2010-22901 Filed 9-13-10; 8:45 am]

BILLING CODE 3510-DS-P